DEPARTMENT OF TRANSPORTATION

Federal Aviation Administration

14 CFR Part 71

[Docket No. FAA-2021-0288; Airspace Docket No. 21-AGL-6]

RIN 2120-AA66

Proposed Amendment of Area Navigation (RNAV) T-348 and Establishment of T-409; Northcentral United States

AGENCY: Federal Aviation Administration (FAA), DOT.

ACTION: Notice of proposed rulemaking (NPRM).

SUMMARY: This action proposes to amend one RNAV route and establish one new RNAV route, in the northcentral United States. The proposal would expand the availability of RNAV routing in support of transitioning the National Airspace System (NAS) from ground-based to satellite-based navigation.

DATES: Comments must be received on or before June 24, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0288; Airspace Docket No. 21-AGL-6 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0288; Airspace Docket No. 21-AGL-6) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0288; Airspace Docket No. 21-AGL-6.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

In support of FAA-led modernization efforts to improve the safety, efficiency, and predictability of the national airspace, as well as transition the NAS from a ground-based to a satellite-based Performance Based Navigation (PBN) system, the FAA is proposing to amend RNAV route T-348 by extending it to provide additional PBN enroute structure, and establish RNAV route T-409. This action would reduce air traffic control (ATC) sector workload and complexity, reduce pilot-to-controller communication, and assist ATC when non-radar procedures are required. These RNAV routes would be available for use by any aircraft equipped with Global Positioning Satellite (GPS) and/or RNAV navigation capabilities.

Additionally, both RNAV route proposals have transiting legs that pass through the Lake Andes Military Operations Areas (MOA). This would provide cost, fuel, and time saving benefits for aircraft transiting the MOA when the MOA is not in use.

The Proposal

The FAA is proposing an amendment to 14 CFR part 71 to amend RNAV route T-348 and establish RNAV route T-409. The proposed route changes are described below.

T-348: T-348 currently extends between the BRAIN, MN, waypoint (WP) and the LUNGS, WI, WP. The FAA proposes to extend the route westward between the LESNR, SD, WP and the BRAIN, MN, WP. As a result of the addition of the proposed segment, the BRAIN WP would remain in place but would no longer be referenced in the legal description. The new proposed route would flow from the LESNR WP, through the TECUD, SD, fix and Sioux Falls, SD, VOR/Tactical Air Navigation (VORTAC), to the GRSIS, MN, WP onward. The resulting RNAV route would extend between the LESNR WP and the LUNGS WP.

T-409: T-409 is a proposed new route that would extend between the LLUKY, NE, WP and the Pierre, SD, VORTAC. This route would mitigate the loss of the V-71 airway segments removed on September 10, 2020 due to the decommissioning of the Winner, SD, VOR.

All radials in the RNAV T-route descriptions below are unchanged and stated in True degrees.

United States Area Navigation routes are published in paragraph 6011 of FAA Order 7400.11E, dated July 21, 2020, and effective September 15, 2020, which is incorporated by reference in 14 CFR 71.1. The RNAV routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6011 United States Area Navigation Routes.

* * * * *

T-348 LESNR, SD to LUNGS, WI [Amended]

LESNR, SD WP

(Lat. 43°29′16.49″ N, long. 099°45′41.00″ W)

TECUD, SD FIX

(Lat. 43°32′54.48″ N, long. 097°51′42.23″ W)

Sioux Falls, SD (FSD) VORTAC

(Lat. 43°38′58.14″ N, long. 096°46′52.02″ W)

GRSIS, MN WP

(Lat. 43°38′45.54″ N, long. 094°25′21.17″ W)

FOOLS, MN WP

(Lat. 43°46′58.20″ N, long. 092°35′44.93″ W)

GABDE, MN WP

(Lat. 43°38′50.04″ N, long. 092°18′26.46″ W)

KRRTR, IA WP

(Lat. 43°16′18.12″ N, long. 091°22′30.62″ W)

Madison, WI (MSN) VORTAC

(Lat. 43°08′41.41″ N, long. 089°20′22.91″ W)

LUNGS, WI WP

(Lat. 43°02′43.66″ N, long. 088°56′54.86″ W)

* * * * *

T-409 LLUKY, NE to Pierre, SD (PIR) [New]

LLUKY, NE WP

(Lat. 42°29′20.26″ N, long. 098°38′11.44″ W)

ADEDY, SD FIX

(Lat. 43°03′05.06″ N, long. 099°17′41.35″ W)

LESNR, SD WP

(Lat. 43°29′16.49″ N, long. 099°45′41.00″ W)

Pierre, SD (PIR) VORTAC

(Lat. 44°23′40.40″ N, long. 100°09′46.11″ W)

* * * * *

Issued in Washington, DC, on May 4, 2021.
George Gonzalez,
Acting Manager, Rules and Regulations Group.

[FR Doc. 2021-09757 Filed 5-7-21; 8:45 am]

BILLING CODE 4910-13-P